SECURITIES AND EXCHANGE COMMISSION

[Release No. 34-76254; File No. SR-CBOE-2015-045]

Self-Regulatory Organizations; Chicago Board Options Exchange, Incorporated; Notice of Withdrawal of Proposed Rule Change, as Modified by Amendment No. 1, Relating to Rule 6.53C and Complex Orders on the Hybrid System

October 23, 2015.

On May 12, 2015, the Chicago Board Options Exchange, Incorporated (“CBOE”) filed with the Securities and Exchange Commission (“Commission”), pursuant to Section 19(b)(1) of the Securities Exchange Act of 1934 ¹ and Rule 19b-4 thereunder,² a proposed rule change to modify CBOE Rule 6.53C, Complex Orders on the Hybrid System, regarding eligibility for participation in the Complex Order Book and the Complex Order Auction (“COA”). The proposed rule change was published for comment in the Federal Register on May 27, 2015.³ On June 3, 2015, CBOE filed Amendment No.1 to the proposed rule change.⁴ On July 6, 2015, the Commission extended the time period within which to approve the proposed rule change, disapprove the proposed rule change, or institute proceedings to determine whether to disapprove the proposed rule change, to August 25, 2015.⁵ On August 19, 2015, the Commission instituted proceedings to determine whether to approve or disapprove the proposed rule change, as modified by Amendment No. 1.⁶ The Commission received no comments on the proposed rule change, as modified by Amendment No. 1. On September 8, 2015, CBOE withdrew the proposed rule change (SR-CBOE-2015-045).

¹ 15 U.S.C. 78s(b)(1).

² 17 CFR 240.19b-4.

³ See Securities Exchange Act Release No. 75003 (May 20, 2015), 80 FR 30306.

⁴ Amendment No. 1 to the proposed rule change amended the statutory basis and burden on competition sections regarding distinguishing between Professional and non-Professional orders for purposes of determining eligibility for COA.

⁵ See Securities Exchange Act Release No. 75359 (July 6, 2015), 80 FR 39821.

⁶ See Securities Exchange Act Release No. 75736 (August 19, 2015), 80 FR 51642.

⁷ 17 CFR 200.30-3(a)(12).

For the Commission, by the Division of Trading and Markets, pursuant to delegated authority.⁷
Robert W. Errett
Deputy Secretary.

[FR Doc. 2015-27521 Filed 10-28-15; 8:45 am]

BILLING CODE 8011-01-P